DEPARTMENT OF ENERGY

Federal Energy Regulatory Commission

[Docket No. RP09-1065-000]

Gulf South Pipeline Company, LP; Notice of Offer of Settlement

September 24, 2009.

Take notice that on September 22, 2009, Gulf South Pipeline Company, LP (Gulf South) filed an Offer of Settlement and Stipulation and Agreement (Settlement), including pro forma tariff sheets, pursuant to 18 CFR 385.207 (a)(5) (2009) to create a new Rate Zone 5 on its system and resolve uncertainty regarding the proper rates for transportation on Gulf South's Southeast Expansion.

Gulf South states that copies of this filing are being mailed, or sent by e-mail if requested, to all affected customers of Gulf South and interested state commissions.

Any person desiring to intervene or to protest this filing must file in accordance with Rules 211 and 214 of the Commission's Rules of Practice and Procedure (18 CFR 385.211 and 385.214 (2009)) by the date set forth below. Protests will be considered by the Commission in determining the appropriate action to be taken, but will not serve to make protestants parties to the proceeding. Any person wishing to become a party must file a notice of intervention or motion to intervene, as appropriate. Such notices or motions must be filed on or before the dates as indicated below. Anyone filing an intervention or protest must serve a copy of that document on the Applicant. Anyone filing an intervention or protest on or before the intervention or protest date set below need not serve motions to intervene or protests on persons other than the Applicant. Initial comments on the Settlement are due not later than 10 days after the filing of the Settlement, and reply comments are due not later than 17 days after the filing of the Settlement.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Interventions, Protests and Initial Comments are due by: October 2, 2009.

Reply Comments are due by: October 9, 2009.

Kimberly D. Bose,
Secretary.

[FR Doc. E9-23653 Filed 9-30-09; 8:45 am]

BILLING CODE 6717-01-P